CORPORATION FOR NATIONAL AND COMMUNITY SERVICE

Information Collection; Submission for OMB Review, Comment Request

AGENCY: Corporation for National and Community Service.

ACTION: Notice.

SUMMARY: The Corporation for National and Community Service (the Corporation), has submitted a public information collection request (ICR) entitled proposed Nonprofit Capacity Building Program Progress Report for review and approval in accordance with the Paperwork Reduction Act of 1995, Public Law 104-13, (44 U.S.C. Chapter 35). Copies of this ICR, with applicable supporting documentation, may be obtained by calling the Corporation for National and Community Service, Jaime Renner, at (612) 334-4085 or email to jrenner@cns.gov. Individuals who use a telecommunications device for the deaf (TTY-TDD) may call 1-(800) 833-3722 between 8 a.m. and 8 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by email to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on October 20, 2011. This comment period ended December 19, 2011. Public comments were received from two Corporation grantees for this Notice. The general consensus of comments related to the challenge of tracking the output measures of the general recipients by focus areas and a need to include information on organizational support of the program. The Corporation gave full consideration to those comments and incorporated their suggested changes into the Progress Report.

Description: The Corporation is seeking approval of Nonprofit Capacity Building Program Progress Report which is used by Nonprofit Capacity Building Grantees semi-annually to summarize project accomplishments, challenges, resources generated, and progress toward achieving project goals and objectives. The Progress Report consists of two parts: A Progress Report Narrative and a Performance Measurement Reporting Workbook.

Type of Review: New.

Agency: Corporation for National and Community Service.

Title: Nonprofit Capacity Building Program Progress Report.

OMB Number: None.

Agency Number: None.

Affected Public: Current sponsoring organizations and subsite organizations and potential sponsoring organizations and subsite organizations.

Total Respondents: 15.

Frequency: Semi-annually.

Average Time per Response: Averages ten (10) hours.

Estimated Total Burden Hours: 150 hours.

Total Burden Cost (capital/startup): None.

Total Burden Cost (operating/maintenance): None.

Dated: December 20, 2011.
Bruce Cline,
Colorado State Program Director, Nonprofit Capacity Building Program Officer.

[FR Doc. 2011-33227 Filed 12-27-11; 8:45 am]

BILLING CODE 6050-$$-P